DEPARTMENT OF TRANSPORTATION

Federal Railroad Administration

49 CFR Part 270

[Docket No. FRA-2011-0060, Notice No. 2]

2130-AC31

System Safety Program

AGENCY: Federal Railroad Administration (FRA), Department of Transportation (DOT).

ACTION: Reopening of comment period.

SUMMARY: By notice of proposed rulemaking (NPRM) published on September 7, 2012, FRA proposed regulations to require commuter and intercity passenger railroads to develop and implement a system safety program (SSP) to improve the safety of their operations. The comment period for the NPRM closed November 6, 2012. This document reopens the comment period until December 7, 2012.

DATES: The comment period for the proposed rule published September 7, 2012, at 77 FR 55372, is reopened. Written comments must be received by Friday, December 7, 2012. Comments received after that date will be considered to the extent possible without incurring additional expenses or delays.

ADDRESSES: Comments: Comments related to Docket No. FRA-2011-0060 may be submitted by any of the following methods:

• Web site: The Federal eRulemaking Portal, www.regulations.gov. Follow the Web site's online instructions for submitting comments.

• Fax: 202-493-2251.

• Mail: Docket Management Facility, U.S. Department of Transportation, 1200 New Jersey Avenue SE., Room W12-140, Washington, DC 20590.

• Hand Delivery: Docket Management Facility, U.S. Department of Transportation, 1200 New Jersey Avenue SE., Room W12-140 on the Ground level of the West Building, between 9 a.m. and 5 p.m., Monday through Friday, except Federal holidays.

Instructions: All submissions must include the agency name, docket name, and docket number or Regulatory Identification Number (RIN) for this rulemaking (2130-AC31). Note that all comments received will be posted without change to http://www.regulations.gov, including any personal information provided. Please see the Privacy Act heading in the SUPPLEMENTARY INFORMATION section of this document for Privacy Act information related to any submitted comments or materials.

Docket: For access to the docket to read background documents or comments received, go to http://www.regulations.gov at any time or visit the Docket Management Facility, U.S. Department of Transportation, 1200 New Jersey Avenue SE., Room W12-140 on the Ground level of the West Building, between 9 a.m. and 5 p.m., Monday through Friday, except Federal holidays.

FOR FURTHER INFORMATION CONTACT: Daniel Knote, Staff Director, Passenger Rail Division, U.S. Department of Transportation, Federal Railroad Administration, Office of Railroad Safety, Mail Stop 25, West Building 3rd Floor, 1200 New Jersey Avenue SE., Washington, DC 20590 (telephone: 631-965-1827), Daniel.Knote@dot.gov; or Matthew Navarrete, Trial Attorney, U.S. Department of Transportation, Federal Railroad Administration, Office of Chief Counsel, Mail Stop 10, West Building 3rd Floor, 1200 New Jersey Avenue SE., Washington, DC 20590 (telephone: 202-493-0138), Matthew.Navarrete@dot.gov.

SUPPLEMENTARY INFORMATION: On October 29 and 30, 2012, Hurricane Sandy struck the Northeast region of the United States causing significant damage, flooding, and loss of power. Many passenger railroads in the Northeast region were affected by Hurricane Sandy and are still making efforts to resume normal service. Due to these extraordinary circumstances, FRA is reopening the comment period and extending the deadline for the NPRM so that the railroads impacted by Hurricane Sandy have an adequate opportunity to submit comments. The comment deadline is reopened and extended from November 6, 2012 to December 7, 2012.

Privacy Act

Interested parties should be aware that anyone is able to search the electronic form of all comments received into any agency docket by the name of the individual submitting the comment (or signing the comment, if submitted on behalf of an association, business, labor union, etc.). See http://www.regulations.gov/#!privacyNotice for the privacy notice of regulations.gov or you may review DOT's complete Privacy Act Statement in the Federal Register published on April 11, 2000 (Volume 65, Number 70; Pages 19477-78).

Issued in Washington, DC, on November 19, 2012.
Robert C. Lauby,
Deputy Associate Administrator for Regulatory and Legislative Operations.

[FR Doc. 2012-28561 Filed 11-23-12; 8:45 am]

BILLING CODE 4910-06-P